DEPARTMENT OF ENERGY

Federal Energy Regulatory Commission

Combined Notice of Filings

Take notice that the Commission has received the following Natural Gas Pipeline Rate and Refund Report filings:

Filings Instituting Proceedings

Docket Numbers: PR24-46-000.

Applicants: Public Service Company of Colorado.

Description: 284.123(g) Rate Filing: Statement of Rates_1.1.24 to be effective 1/1/2024.

Filed Date: 1/31/24.

Accession Number: 20240131-5123.

Comment Date: 5 p.m. ET 2/21/24.

284.123(g) Protest: 5 p.m. ET 4/1/24.

Docket Numbers: PR24-47-000.

Applicants: NorthWestern Corporation.

Description: 284.123 Rate Filing: Revised Transportation and Storage Rates(Annual Tax Tracker) to be effective 1/1/2024.

Filed Date: 1/31/24.

Accession Number: 20240131-5174.

Comment Date: 5 p.m. ET 2/21/24.

Docket Numbers: RP24-361-000.

Applicants: El Paso Natural Gas Company, L.L.C.

Description: 4(d) Rate Filing: Negotiated Rate Agreement Update (TMV Feb 2024) to be effective 2/1/2024.

Filed Date: 1/30/24.

Accession Number: 20240130-5138.

Comment Date: 5 p.m. ET 2/12/24.

Docket Numbers: RP24-362-000.

Applicants: Transwestern Pipeline Company, LLC.

Description: Compliance filing: Alert Day Penalty Report on 1-31-2024 to be effective N/A.

Filed Date: 1/31/24.

Accession Number: 20240131-5045.

Comment Date: 5 p.m. ET 2/12/24.

Docket Numbers: RP24-363-000.

Applicants: Equitrans, L.P.

Description: 4(d) Rate Filing: Crediting of Penalty Revenue Threshold to be effective 3/1/2024.

Filed Date: 1/31/24.

Accession Number: 20240131-5096.

Comment Date: 5 p.m. ET 2/12/24.

Docket Numbers: RP24-364-000.

Applicants: Kern River Gas Transmission Company.

Description: 4(d) Rate Filing: 2024 Special Pool Filing to be effective 3/1/2024.

Filed Date: 1/31/24.

Accession Number: 20240131-5099.

Comment Date: 5 p.m. ET 2/12/24.

Docket Numbers: RP24-365-000.

Applicants: El Paso Natural Gas Company, L.L.C.

Description: 4(d) Rate Filing: Negotiated Rate Agreement Update (Conoco Feb 2024) to be effective 2/1/2024.

Filed Date: 1/31/24.

Accession Number: 20240131-5152.

Comment Date: 5 p.m. ET 2/12/24.

Docket Numbers: RP24-366-000.

Applicants: Northern Natural Gas Company.

Description: 4(d) Rate Filing: 20240131 Negotiated Rate to be effective 2/1/2024.

Filed Date: 1/31/24.

Accession Number: 20240131-5194.

Comment Date: 5 p.m. ET 2/12/24.

Docket Numbers: RP24-367-000.

Applicants: Equitrans, L.P.

Description: 4(d) Rate Filing: Negotiated Rate Agreement—2/1/2024 to be effective 2/1/2024.

Filed Date: 1/31/24.

Accession Number: 20240131-5258.

Comment Date: 5 p.m. ET 2/12/24.

Docket Numbers: RP24-368-000.

Applicants: Southern Star Central Gas Pipeline, Inc.

Description: 4(d) Rate Filing: Annual Modernization Capital Cost Recovery Mechanism—Eff. March 1, 2024 to be effective 3/1/2024.

Filed Date: 1/31/24.

Accession Number: 20240131-5271.

Comment Date: 5 p.m. ET 2/12/24.

Docket Numbers: RP24-369-000.

Applicants: MarkWest Pioneer, L.L.C.

Description: 4(d) Rate Filing: Amended Nonconforming Negotiated Rate Service Agreement to be effective 2/1/2024.

Filed Date: 1/31/24.

Accession Number: 20240131-5284.

Comment Date: 5 p.m. ET 2/12/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-887-002.

Applicants: Columbia Gulf Transmission, LLC.

Description: Compliance filing: Stipulation and Settlement Agreement Complaince—Rate Implementation to be effective 3/1/2024.

Filed Date: 1/31/24.

Accession Number: 20240131-5185.

Comment Date: 5 p.m. ET 2/12/24.

Docket Numbers: RP23-929-002.

Applicants: National Fuel Gas Supply Corporation.

Description: Compliance filing: RP23-929 Suspension CF with Motion to be effective 2/1/2024.

Filed Date: 1/30/24.

Accession Number: 20240130-5175.

Comment Date: 5 p.m. ET 2/12/24.

Docket Numbers: RP23-930-002.

Applicants: Saltville Gas Storage Company L.L.C.

Description: Compliance filing: SGSC Compliance Filing (Motion Rates)—Docket No. RP23-930 to be effective 2/1/2024.

Filed Date: 1/31/24.

Accession Number: 20240131-5234.

Comment Date: 5 p.m. ET 2/12/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: January 31, 2024.
Debbie-Anne A. Reese,
Acting Secretary.

[FR Doc. 2024-02379 Filed 2-5-24; 8:45 am]

BILLING CODE 6717-01-P